DEPARTMENT OF AGRICULTURE

Forest Service

Los Padres National Forest: California; Environmental Impact Statement for the Removal of the Noxious Weed Tamarisk on the Los Padres National Forest

AGENCY: Forest Service, USDA.

ACTION: Notice of intent to prepare an environmental impact statement.

SUMMARY: The USDA, Forest Service, Los Padres National Forest, gives notice of intent to conduct analysis and prepare an Environmental Impact Statement (EIS) for the removal of the noxious weed Tamarisk across the Los Padres National forest: this notice announces the beginning of scoping, describes the proposed action, decisions to be made, and estimates the dates for filing the draft and final EIS. This notice also provides information concerning public participation, and the names and addresses of the Agency officials who can provide information.

DATES: Comments concerning the scope of the analysis will be received for 45 days from publication in the Federal Register. The draft environmental impact statement is expected October 17, 2011 and the final environmental impact statement is expected April 30, 2012.

ADDRESSES: Send written comments to Los Padres National Forest, 6755 Hollister Avenue, Suite 150, Goleta, CA 93117, attention: Lloyd Simpson, Forest Botanist. Comments may also be sent via email to: comments-pacificsouthwest-los-padres-ojai@fs.fed.us, or via facsimile to (805) 646-0408.

Comments received in response to this solicitation, including names and addresses of those who comment, will be part of the public record for this proposed action.

FOR FURTHER INFORMATION CONTACT: Questions about the proposed action may be directed to Project Team Leader, Lloyd Simpson, Los Padres National Forest, Ojai Ranger District, 1190 E. Ojai Ave., Ojai, CA 93023; or by telephone: (805) 646-4348 ext. 316. Email: commentspacificsouthwest-los-padres-ojai@fs.fed.us.

Individuals who use telecommunication devices for the deaf (TDD) may call the Federal Information Relay Service (FIRS) at 1-(800) 877-8339 between 8 a.m. and 8 p.m., Eastern Time, Monday through Friday.

SUPPLEMENTARY INFORMATION:

Purpose and Need for Action

There is a need to eradicate the noxious weed tamarisk from Piru Creek, Lockwood Creek, Cuyama River, Santa Ynez River, Sisquoc River, and Arroyo Seco River in order to restore and maintain habitat for riparian dependent species such as the federally listed arroyo toad, California red-legged frog, and steelhead trout. The purpose of this project is to eradicate tamarisk in a timely manner and with an approach that is pest-specific, cost effective, and safe for the human and aquatic environments.

The project area is on the Los Padres National Forest in portions of the Piru Creek, Lockwood Creek, Cuyama River, Santa Ynez River, Sisquoc River, and Arroyo Seco River watersheds. The analysis area covers 4,247 acres and 368 miles of perennial and intermittent streams. Infestations of tamarisk occurring in these streams and their tributaries within the analysis area are targeted for removal.

For fish and wildlife, direction is provided to maintain fisheries habitat for viable populations of native fish species and to prevent the destruction or adverse modification of habitat essential to threatened, endangered, or sensitive species. The Forest Plan states that “management activities or practices may occur in riparian areas as long as habitat and species diversity of the area is maintained in a healthy state” and that “habitat improvement will enhance conditions for sensitive, threatened, and endangered species.”

Proposed Action

The Los Padres National Forest (LPNF) proposes to control the invasive species tamarisk in portions of the Piru Creek, Lockwood Creek, Cuyama River, Santa Ynez River, Sisquoc River, and Arroyo Seco River watersheds. This action will result in the improvement of riparian ecosystems that have been impacted by the invasion of tamarisk.

Tamarisk has replaced the native riparian plant community of willows, cottonwoods and other desirable native riparian species. Its' water-consuming ability has reduced the surface water available to wildlife. The best management strategy is to enact control measures now before the tamarisk infestations become any larger.

Successful invasive species control programs are implemented at the landscape level, particularly within watersheds for species that colonize stream courses. Partnerships are especially important for accomplishing weed control. Volunteers have worked for many years on the Los Padres to remove and control tamarisk. They will continue to be part of this effort.

Tamarisk infestations have various impacts on a number of federally listed threatened (F-T) and endangered (F-E) species, as well as some Region 5 Forest Service Sensitive (R5-S) species. Federally listed endangered Least Bell's vireo and Southwestern Willow Flycatcher have been known to nest in large groves of habitat dominated by tamarisk, but this is not likely in the Los Padres NF given the scattered nature of the present tamarisk populations. However, it is well documented that tamarisk removal will restore natural habitat for these birds as well as arroyo toad (F-E), California red-legged frog (F-T), southwestern pond turtle (R5-S), two-striped garter snake (R5-S) and steelhead trout (both F-E and F-T) stocks.

This project is designed to eradicate current infestations of Tamarisk (Tamarix ramosissima, T. chinensis, T. gallica, T. parviflora) and to prevent its further spread on National Forest System land. Tamarisk is a nonnative invasive tree-shrub that can grow in dense patches, out-compete native vegetation, change soil chemistry by depositing salts in deep ground water on the soil surface, and remove large amounts of water from streams and riparian areas via evapo-transpiration through its foliage. This project covers portions of the Piru Creek, Lockwood Creek, Cuyama River, Santa Ynez River, Sisquoc River, and Arroyo Seco River watersheds.

The current tamarisk infestation covers 368 miles or 4,247 acres of riparian habitat on NFS lands. The goal is to implement control measures now before tamarisk becomes a larger problem in riparian ecosystems.

The methods of tamarisk eradication have several constraints in this project: (1) Many treatment areas are very steep, making access and logistics difficult. There is no motorized access to most of the project area, much of it is in Congressionally designated Wilderness. All supplies and equipment must either be packed or flown in. Pile-burning cut tamarisk stems is not feasible due to the logistics of getting crews and suppression resources down into the canyons to do it. (2) There are few suitable areas to relocate tamarisk stems for disposal via burn piles. (3) There is habitat known for Least Bell's Vireo and Southwestern Willow Flycatcher, two federally endangered birds in the Piru creek watershed. The habitat area contains scattered tamarisk within the riparian vegetation.

The proposed action is a combination of tamarisk treatment methods designed to be as light on the land as possible and at the same time cost and labor efficient. The methods used will be a combination of hand treatments, herbicide applications, and biological control. Tamarisk seedlings will be removed by hand by pulling and placing them where they cannot reestablish. Herbicides are essential to meet the project objectives. Tamarisk will re-sprout if simply cut down and/or burned. Herbicide treatments are the most effective and the most efficient control method currently available. Herbicide use will be consistent with the Forest Service Pesticide Use Policy, will be in compliance with state and federal regulations, will follow Region 5 Best Management Practices for Vegetation Manipulation, the Region 5 Supplement for Pesticide-Use Management and Coordination, and the Forest Plan guidance including the Supplement to Soil and Water Conservation Practices FSH 2509.22-2005-1. A bio-control insect bred to assist in the treatment and control of tamarisk infestations is currently available. While tamarisk distribution across NFS land may be too spread out to maintain effective populations of a control insect, use of the insect may be appropriate in areas where there is higher tamarisk density.

Herbicide treatments will be restricted to ground-based/hand applications only; NO AERIAL SPRAYING is being proposed.

Seedlings and young plants will be hand-pulled where possible and removed from the riparian area and placed in the sun minimizing soil contact with the roots. Experience with hand pulling has shown that only plants 1 foot tall or less can be successfully removed. We will begin removing the younger plants on the boundaries of infestations and do as much as we can each year.

Large tamarisk within 10 horizontal feet of standing or running water will be treated with imazapyr (Habitat or similar formulation). Treatment type will depend on size of the individual tamarisk plant and the access available to do the treatment. Cut plant material will be removed from the waterway but left in small piles as wildlife habitat.

Treatment methods are:

Cut Stump Treatment: Tree trunks are cut near ground level with handsaws or chainsaws and then stumps are hand coated with the herbicide, surfactant and colorant using sponge brushes. The mixture is quickly absorbed by the plant's phloem and transported to the root; if the herbicide mixture is applied immediately (2-10 minutes), 85-95% control is possible.

Frill Treatment: With this method, a hatchet is used to cut downward into the water-conducting tissue (phloem) of standing trees. This treatment would be done using a Hypo-Hatchet to directly inject a pre-set amount of herbicide directly into the tree. Usually one injection is made for every inch of stem diameter evenly spaced around the circumference.

For plants beyond the 10 horizontal feet of standing or running water, another herbicide, triclopyr (Garlon 4 or similar formulation) may be used. Triclopyr is not labeled for use around water and would only be used on upland plants.

Treatments would be similar to imazapyr and based on plant size. Cut material will be disposed of in the same way as the cut riparian tamarisk described earlier.

Resource Protection Measures

The following resource protection measures would be employed under all action alternatives:

Water Quality: Water quality would be protected following measures described in the Best Management Practices. Best Management Practices would be implemented during all activities associated with this proposed action. Best Management Practices (BMPs) are measures developed cooperatively with the Forest Service and the California State Water Quality Control Board to control non-point source pollution on National Forest System lands. Many BMPs are available for use and can be tailored to accommodate site-specific conditions. A monitoring protocol for this project will be included in the project implementation plan.

Wildlife and Fisheries: A biological assessment/evaluation of all threatened, endangered, and sensitive wild life and fish species that potentially occur in the project would be drafted to provide an assessment of the impacts of the proposed action. The best management practices above will minimize or eliminate the exposure of wildlife and fisheries to pesticides. The primary effect on federally listed or Forest Service sensitive species will be the physical presence to work crews in occupied habitat. The following resource protection measures would be carried out during project implementation to protect federally listed and R5 Forest Service sensitive species:

• To avoid trampling of arroyo toads and California red-legged frogs, a qualified biologist would conduct a training session for all project personnel prior to conducting the proposed action in habitat for arroyo toads and California red-legged frogs. At a minimum, the training would include a description of the arroyo toad and its habitat, the general provisions of the Endangered Species Act; the necessity for adhering to the provisions of the Act; the penalties associated with violating the provisions of the Act; the general measures that are being implemented to conserve the listed species as they relate to the project; and the access routes to and from project site boundaries within which the treatments may be accomplished.

• In arroyo toad and California red-legged frog habitat, all routes to treatment sites would be identified by a qualified biologist and used repeatedly by workers to minimize trampling of arroyo toads and vegetation.

• Applicators would avoid walking or stepping in water, to the maximum extent possible. They would also avoid spilling herbicide on footwear and clothing to prevent inadvertent contamination if contact with water occurs.

• All access routes and treatment sites within arroyo toad and California red-legged frog habitat would be thoroughly searched for the presence of arroyo toads and California red-legged frog by a qualified biologist prior to the onset of project activities at each site. This should occur within two weeks of work commencement.

• Arroyo toads and California red-legged frog found within the treatment sites shall be carefully moved outside the immediate work area and released by a qualified biologist permitted by USFWS to handle these species. Animals found within access routes may be moved to appropriate habitat if their avoidance is not practicable. If project activities cease for more than three days within any one treatment site, access routes and treatment areas would be searched again for arroyo toads and California red-legged frog prior to the start of the day's work. Information that includes the date, time of capture, specific location of capture, approximate size, age and health of the individual would be recorded.

• Treatments will be conducted during low stream flow or no stream flow periods of the year to avoid potential impacts to steelhead trout or their spawning redds during the late fall to early winter months.

• If workers encounter aquatic wildlife species other than arroyo toads and California red-legged frog during project implementation they will allow the animal(s) to flee to safe areas out of the work sites or physically move the animals to safe locations.

Sensitive Plants: A biological assessment/evaluation of all threatened, endangered, and sensitive plant species that potentially occur in the project would be drafted to provide an assessment of the impacts of the proposed action. Best Management practices above and the highly targeted application methods being used in this project will minimize the exposure of Forest Service sensitive plant species to herbicide.

Noxious Weeds: Require cleaning of any tools carried into or out of the project area to reduce the risk of noxious weed spread.

Heritage Resources: Areas requiring flagging and avoidance would be identified by a qualified heritage resources manager to the project planner prior to any implementation of project work.

Possible Alternatives

A full range of alternatives will be considered including action and no-action. Alternatives responding to issues generated during the scoping process and interdisciplinary team project development will also be developed and considered. All alternatives will comply with the Los Padres National Forest Land Management Plan.

Responsible Official

Peggy Hernandez, Forest Supervisor, Los Padres National Forest, Goleta California, is the responsible official for the EIS and its Record of Decision. As the Responsible Official, the Forest Supervisor will document the decision and reason for the decision in the Record of Decision. The decision will be subject to Forest Service Appeals Regulations (36 CFR part 215).

Nature of Decision To Be Made

The Responsible Official will make a decision considering the following:

1. Whether the proposed action will proceed as proposed, with modifications, or not at all.

2. What associated mitigation measures and monitoring requirements will be required Preliminary Issues.

Preliminary issues identified include the following:

1. Hand removal is not controlling the current infestations of Tamarisk and herbicides are needed.

2. Use of herbicides and the need to protect water quality and public safety.

3. Presence of listed threatened and endangered species, their habitat, and/or mapped critical habitat.

Scoping Process

This notice of intent initiates the scoping process, which guides the development of the environmental impact statement.

The Forest Supervisor is seeking public and agency comment on the proposed action to identify issues that arise from the proposed action. The issues may lead to other alternatives, or additional mitigation measure and monitoring requirements. In addition to this notice, public scoping letters will be mailed to interested parties.

It is important reviewers provide their comments at such times and in such a way they are useful to the Agency's preparation of the environmental impact statement. The submission of timely and specific comments can affect a reviewer's ability to participate in subsequent administrative appeal of judicial review.

Dated: September 7, 2011.
Peggy Hernandez,
Forest Supervisor.

[FR Doc. 2011-33021 Filed 12-23-11; 8:45 am]

BILLING CODE M